FEDERAL ELECTION COMMISSION

Sunshine Act Meeting

AGENCY: Federal Election Commission.

DATE AND TIME: Thursday, January 28, 2016 at 10:00 a.m.

PLACE: 999 E Street NW., Washington, DC (ninth floor).

STATUS: This meeting will be open to the public.

Federal Register Notice of Previous Announcement—81 FR 4299

CHANGE IN THE MEETING: The January 28, 2016 meeting has been cancelled.

FOR FURTHER INFORMATION CONTACT: Judith Ingram, Press Officer, Telephone: (202) 694-1220.

Shelley E. Garr,
Deputy Secretary of the Commission.

[FR Doc. 2016-01847 Filed 1-28-16; 4:15 pm]

BILLING CODE 6715-01-P